DEPARTMENT OF ENERGY

Federal Energy Regulatory Commission

Combined Notice of Filings #2

March 3, 2006.

Take notice that the Commission received the following electric rate filings.

Docket Numbers: ER99-970-004; ER00-38-005; ER00-1171-003; ER00-2080-003.

Applicants: RockGen Energy, LLC; Broad River Energy LLC; Tiverton Power Associates, L.P.; Rumford Power Associates, L.P.

Description: Calpine Entitites submits an amendment to their joint triennial udpated market power analysis submitted on January 17, 2006.

Filed Date: February 24, 2006.

Accession Number: 20060228-0071.

Comment Date: 5 p.m. Eastern Time on Friday, March 9, 2006.

Docket Numbers: ER01-1807-021; ER01-2020-018.

Applicants: Carolina Power & Light Company.

Description: Carolina Power & Light Company, d/b/a Progress Energy Carolina, Inc submits its compliance refund report pursuant to May 21, 2003 Order.

Filed Date: February 24, 2006.

Accession Number: 20060224-5001.

Comment Date: 5 p.m. Eastern Time on Friday, March 17, 2006.

Docket Numbers: ER05-26-003.

Applicants: Mirant Kendall LLC; Mirant Americas Energy Marketing, LP.

Description: Mirant Kendall, LLC et al. submits amended compliance filing, pursuant to Order 614, to change the designation of the rate schedule sheets from Original Volume 1 to the Original Volume 2.

Filed Date: February 24, 2006.

Accession Number: 20060301-0382.

Comment Date: 5 p.m. Eastern Time on Friday, March 17, 2006.

Docket Numbers: ER05-1497-002.

Applicants: Dearborn Industrial Generation, L.L.C.

Description: Dearborn Industrial Generation, LLC submits the late filed compliance filing pursuant to December 29, 2005 Order.

Filed Date: February 22, 2006.

Accession Number: 20060301-0436.

Comment Date: 5 p.m. Eastern Time on Wednesday, March 15, 2006.

Docket Numbers: ER06-25-001.

Applicants: American Electric Power Service Corp.

Description: American Electric Power Service Corp submits, on behalf of its affiliate AEP Texas North Co., revised Interconnection Agreement with Buffalo Gap Wind Farm 2, LLC.

Filed Date: February 22, 2006.

Accession Number: 20060301-0383.

Comment Date: 5 p.m. Eastern Time on Wednesday, March 15, 2006.

Docket Numbers: ER06-232-001.

Applicants: PJM Interconnection L.L.C.

Description: PJM Interconnection, LLC submits an amendment to its OAT and amended and restated Operating Agreement previously filed November 18, 2005.

Filed Date: February 24, 2006.

Accession Number: 20060301-0376.

Comment Date: 5 p.m. Eastern Time on Friday, March 17, 2006.

Docket Numbers: ER06-260-002.

Applicants: Midwest Independent Transmission System Operator, Inc.

Description: Midwest Independent Transmission System Operator Inc submits the redlined or strike-through version of the Rev & Restated Generator Interconnection & Operating Agreement with FirstEnergy Generation Corp. et al.

Filed Date: February 23, 2006.

Accession Number: 20060301-0380.

Comment Date: 5 p.m. Eastern Time on Thursday, March 16, 2006.

Docket Numbers: ER06-292-001.

Applicants: Public Service Company of New Mexico.

Description: Public Service Company of New Mexico submits its response to the Commission's January 23, 2006 deficiency letter.

Filed Date: February 22, 2006.

Accession Number: 20060301-0541.

Comment Date: 5 p.m. Eastern Time on Wednesday, March 15, 2006.

Docket Numbers: ER06-313-002.

Applicants: Midwest Independent Transmission System Operator, Inc.

Description: Midwest Independent Transmission System Operator Inc, submits proposed revisions of its Open Access Transmission and Energy Markets Tariff pursuant to Commission's May 26, 2005 and February 7, 2006 Orders.

Filed Date: February 22, 2006.

Accession Number: 20060301-0390.

Comment Date: 5 p.m. Eastern Time on Wednesday, March 15, 2006.

Docket Numbers: ER06-548-001.

Applicants: Cincinnati Gas & Electric Company.

Description: The Cincinnati Gas & Electric Co resubmits the Facilities Operation Agreement with the Union Light, Heat, and Power Co as Rate Schedule 60.

Filed Date: February 23, 2006.

Accession Number: 20060301-0381.

Comment Date: 5 p.m. Eastern Time on Thursday, March 16, 2006.

Docket Numbers: ER06-580-001.

Applicants: Midwest Independent Transmission System Operator, Inc.

Description: Midwest Independent Transmission System Operator Inc submits its revised Network Integration Service Agreement with the City of Chelsea, MI.

Filed Date: February 22, 2006.

Accession Number: 20060301-0391.

Comment Date: 5 p.m. Eastern Time on Wednesday, March 15, 2006.

Docket Numbers: ER06-581-001.

Applicants: Midwest Independent Transmission System Operator, Inc.

Description: Midwest Independent Transmission System Operator, Inc submits its revised Network Integration Service Agreement with the City of Portland, MI.

Filed Date: February 24, 2006.

Accession Number: 20060301-0375.

Comment Date: 5 p.m. Eastern Time on Friday, March 17, 2006.

Docket Numbers: ER06-658-000.

Applicants: Southern California Edison Company.

Description: Southern California Edison Co submits revised rate sheets to the Interconnection Facilities Agreement with Cabazon Wind Partners, LLC.

Filed Date: February 22, 2006.

Accession Number: 20060301-0045.

Comment Date: 5 p.m. Eastern Time on Wednesday, March 15, 2006.

Docket Numbers: ER06-659-000.

Applicants: Bellow Falls Power Company, LLC.

Description: Bellows Falls Power Co, LLC submits a Notice of Cancellation, terminating its market based tariff, FERC Electric Tariff, First Revised Volume No.1.

Filed Date: February 22, 2006.

Accession Number: 20060301-0048.

Comment Date: 5 p.m. Eastern Time on Wednesday, March 15, 2006.

Docket Numbers: ER06-660-000.

Applicants: Southern California Edison Company.

Description: Southern California Edison Co submits revised rate sheets to its Amended and Restated Mandalay Generating Station Radial Lines Agreement with Reliant Energy Mandalay, Inc.

Filed Date: February 23, 2006.

Accession Number: 20060301-0038.

Comment Date: 5 p.m. Eastern Time on Thursday, March 16, 2006.

Docket Numbers: ER06-661-000.

Applicants: PJM Interconnection, L.L.C.

Description: PJM Interconnection, LLC submits an executed interconnection service agreement and an executed construction service agreement with PPL Susquehanna, LLC et al.

Filed Date: February 22, 2006.

Accession Number: 20060301-0039.

Comment Date: 5 p.m. Eastern Time on Wednesday, March 15, 2006.

Docket Numbers: ER06-664-000.

Applicants: Southern California Edison Company.

Description: Southern California Edison submits revised sheets to its Interconnection Facilities Agreement with Whitewater Hill Wind Partners LLC.

Filed Date: February 22, 2006.

Accession Number: 20060301-0392.

Comment Date: 5 p.m. Eastern Time on Wednesday, March 15, 2006.

Docket Numbers: ER06-665-000.

Applicants: Midwest Independent Transmission System Operator, Inc.

Description: Midwest Independent Transmission System Operator Inc submits a Large Generator Interconnection Agreement with MinnDakota Wind LLC et al.

Filed Date: February 23, 2006.

Accession Number: 20060301-0393.

Comment Date: 5 p.m. Eastern Time on Thursday, March 16, 2006.

Docket Numbers: ER06-666-000.

Applicants: Midwest Independent Transmission System Operator, Inc.

Description: Midwest Independent Transmission System Operator Inc submits proposed revisions to its Open Access Transmission and Energy Markets Tariff.

Filed Date: February 24, 2006.

Accession Number: 20060301-0394.

Comment Date: 5 p.m. Eastern Time on Friday, March 17, 2006.

Docket Numbers: ER06-667-000.

Applicants: Midwest Independent Transmission System Operator, Inc.

Description: Midwest Independent Transmission System Operator, Inc submits an executed Large Generator Interconnection Agreement with MinnDakota Wind, LLC et al.

Filed Date: February 23, 2006.

Accession Number: 20060301-0395.

Comment Date: 5 p.m. Eastern Time on Thursday, March 16, 2006.

Docket Numbers: ER06-668-000.

Applicants: Xcel Energy Operating Companies.

Description: Xcel Energy Services, Inc on behalf of Northern States Power Co submits a Distribution Facilities Agreement with the City of Winthrop.

Filed Date: February 24, 2006.

Accession Number: 20060301-0396.

Comment Date: 5 p.m. Eastern Time on Friday, March 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-3460 Filed 3-9-06; 8:45 am]

BILLING CODE 6717-01-P